DEPARTMENT OF COMMERCE

National Oceanic and Atmospheric Administration

[RTID 0648-XE537]

Fisheries of the Exclusive Economic Zone Off Alaska; Alaska Pollock Workshop

AGENCY: National Marine Fisheries Service (NMFS), National Oceanic and Atmospheric Administration (NOAA), Commerce.

ACTION: Notice of public meeting.

SUMMARY: NMFS will convene a workshop on walleye pollock in Alaska for the purposes of synthesizing ongoing research, building and strengthening collaborations, and highlighting topics which need more attention. The focus will be on biological and ecological scientific research.

DATES: The workshop is open to the public from January 14, 2025-Jan 16, 2025 from 9 a.m. to 5 p.m. Pacific standard time. Please see SUPPLEMENTARY INFORMATION for the daily meeting agenda.

ADDRESSES: The meeting will be a hybrid format with the in-person component in Room 2076, Building 4, Alaska Fisheries Science Center, Western Regional Center, Seattle, WA. The virtual component will be held on Google Meet at: https://meet.google.com/wwy-yxuo-usf.

Or dial: (US) +1 636-649-4229 PIN: 118 376 198; FOR FURTHER INFORMATION CONTACT: Cole Monnahan, 206-526-4224; cole.monnahan@noaa.gov.

SUPPLEMENTARY INFORMATION: For further information, please visit https://docs.google.com/document/d/1wm5by946rWdgrcdz5JgywTvC_KueUQVFCxU9AGUdDqE.

Daily Meeting Agenda

The agenda is subject to change; all times are in Pacific Standard Time (PST), and are approximate and may be changed at the discretion of the coordinators. Presentations are grouped by themes, and can focus on different large marine ecosystems (LME) in Alaska, including the Gulf of Alaska (GOA), Bering Sea and Aleutian Islands (BSAI), the Northern Bering Sea (NBS), and the Eastern Bering Sea (EBS).

Day 1—Tuesday January 14th
Start PST | Length (mins) | Theme | Presenter | Topic | LME
9 a.m | 15 |  | Monnahan | Introductions
9:15 a.m | 15 |  | Monnahan | Work shop goals and products: conceptual models of key processes
9:30 a.m | 15 | Early life history | L Rogers | Changes in the timing of spawning and early life stage development | BSAI/GOA.
9:45 a.m | 15 | Early life history | Page | Fall Condition of Young-Of-The-Year Walleye Pollock in the Southeastern and Northern Bering Sea | EBS/NBS.
10 a.m | 15 | Early life history | Stabeno | EcoFOCI | GOA.
10:15 a.m | 15 | Early life history | Slesinger | Population-specific and temperature effects on hatch timing and success | GOA.
10:30 a.m | 15 |  |  | Break
10:45 a.m | 15 | Early life history | Laurel | A history of Gulf of Alaska age-0 pollock in the nearshore | GOA.
11 a.m | 15 | Early life history | Miller | GOA-wide juvenile gadid survey | GOA.
11:15 a.m | 15 | Early life history | Champagnat | DSEM models to explain variation in recruitment in the GOA | GOA.
11:30 a.m | 30 | Early life history |  | General Discussion | All.
12 p.m | 60 | Early life history |  | Breakout discussion: building conceptual models of recruitment | Split GOA/BSAI.
1 p.m | 60 |  |  | Lunch break
2 p.m | 15 | Biology & feeding ecology | Goldstein | Age, growth, life history, FT-NIRS for age, condition, and reproduction | BSAI/GOA.
2:15 p.m | 15 | Biology & feeding ecology | Lamb | Results of multi-year juvenile pollock diet study (WGOA) | GOA.
2:30 p.m | 15 | Biology & feeding ecology | Reum | Decadal patterns in walleye pollock diets in Alaskan marine ecosystems | BSAI/GOA.
2:45 p.m | 15 | Biology & feeding ecology | Indivero | Spatio-temporal model of weight-at-age; forecasting distribution shifts with climate change and spatial overlap with choke species | EBS.
3 p.m | 15 | Biology & feeding ecology | Miller | Patterns in movement and trophic behavior of adult walleye pollock in the Bering Sea—results from stable isotope analysis of eye lenses | EBS.
3:15 p.m | 15 | Biology & feeding ecology | Abookire | Effects of ocean warming on weight at age, recruitment, and age structure diversity for GOA walleye pollock | GOA.
3:30 p.m | 15 | Biology & feeding ecology | Bigman | Changes in size-at-age of pollock with temperature and oxygen | EBS.
3:45 p.m | 15 |  |  | Break
4 p.m | 30 | Biology & feeding ecology |  | General Discussion | All.
4:30 p.m | 60 | Biology & feeding ecology |  | Breakout discussion: building conceptual models of growth | Split GOA/BSAI.
5:30 p.m | 30 |  |  | Conclude for day

Day 2—Wednesday, January 15th
Start time PST | Length (mins) | Theme | Presenter | Topic | LME
9 a.m | 15 |  | McGowan | Recap and updates on conceptual models
9:15 a.m | 15 | Population monitoring | Vechter | Past, current, and potential future data collections from the commercial pollock fishery | BSAI/GOA.
9:30 a.m | 15 | Population monitoring | Yochum | Fishery-dependent data collection | BSAI/GOA.
9:45 a.m | 15 | Population monitoring | Schaal | Genomic analysis of GOA and Bering Sea Pollock | BSAI/GOA.
10 a.m | 15 | Population monitoring | Wassermann | Pollock population monitoring issues | BSAI/GOA.
10:15 a.m | 15 | Population monitoring | Neidecher | Maturity, hisology, fecundity data used to assess spawning stratagy and changes in spawning patterns | BSAI/GOA.
10:30 a.m | 15 |  |  | Break
10:45 a.m | 15 | Population monitoring | Ressler | Acoustic-trawl surveys of pollock in Alaska—what they provide, outstanding questions | BSAI/GOA.
11 a.m | 15 | Population monitoring | Levine | Use of moored echosounders to better understand pollock behavior | BSAI/GOA.
11:15 a.m | 60 | Population monitoring |  | General Discussion | All.
12:15 p.m | 60 |  |  | Lunch break
1:15 p.m | 15 | Predation/food webs | Dorn | GOA-CLIM | GOA.
1:30 p.m | 15 | Predation/food webs | Holsman | Climate integrated stock assessment advice | BSAI/GOA.
1:45 p.m | 15 | Predation/food webs | Barnes | Predators as samplers: using food habits data to inform climate- and community-driven shifts in habitat quality for EFH species | GOA.
2 p.m | 15 | Predation/food webs | Gerson | Using predators as samplers to quantify foraging landscapes throughout the Gulf of Alaska | GOA.
2:15 p.m | 15 | Predation/food webs | Rovellini | Implications of arrowtooth flounder predation on pollock for GOA Optimum Yield | GOA.
2:30 p.m | 15 |  |  | Break
2:45 p.m | 15 | Predation/food webs | McHuron | Marine mammal consumption of pollock | BSAI/GOA.
3 p.m | 60 | Predation/food webs |  | General Discussion | All.
4 p.m | 45 |  |  | Breakout discussions for conceptual models
4:45 p.m |  |  |  | Conclude for day

Day 3—Thursday January 16th
Start time PST | Length (mins) | Theme | Presenter | Topic | LME
9 a.m | 15 |  | Ferriss | Recap from day 2 | GOA.
9:15 a.m | 15 | Climate/ecosystem | Miller | Establishing new trophic indices of age-0 pollock for the Bering Sea: a stable isotopic retrospective analysis of trophic response to changing ocean conditions | EBS.
9:30 a.m | 15 | Climate/ecosystem | Wassermann | EBS pollock model-based indices | EBS.
9:45 a.m | 15 | Climate/ecosystem | Siddon | EBS ESR and EBS Pollock risk table | EBS.
10 a.m | 15 | Climate/ecosystem | Ferriss | GOA Risk table ecosystem information: data included and gaps | GOA.
10:15 a.m | 15 | Climate/ecosystem | Shotwell | GOA pollock ESP indicators and applications to ABC and TAC decisions | GOA.
10:30 a.m | 15 | Climate/ecosystem | Whitney | Can ecosystem and or socio-economic functions play a role in specifying management objectives? | BSAI.
10:45 a.m | 15 |  |  | Break
11 a.m | 15 | Climate/ecosystem | M. Rogers | NBS Regional Work Plan—Pollock isoscapes in warm and cold conditions | NBS.
11:15 a.m | 15 | Climate/ecosystem | Thorson | State-space models to integrate climate and forage drivers into research and operations | EBS.
11:30 a.m | 15 | Climate/ecosystem | Adams | Single and multi-species management strategies under climate change | GOA.
11:45 a.m | 60 | Climate/ecosystem |  | General Discussion | All.
12:45 p.m | 60 |  |  | Lunch break
1:45 p.m | 30 | Recruitment model | TBD | Present hypothesized set of conceptual models for recruitment | GOA.
2:15 p.m | 30 | Growth model | TBD | Present hypothesized set of conceptual models for growth | GOA.
2:45 p.m | 15 |  |  | Break
3 p.m | 30 | Recruitment model | TBD | Present hypothesized set of conceptual models for recruitment | BSAI.
3:30 p.m | 30 | Growth model | TBD | Present hypothesized set of conceptual models for growth | BSAI.
4 p.m | 60 | Report writing
5 p.m |  |  |  | Conclude for day

The meeting is open to the public; however, during the `Report Writing' session on Thursday, January 16th, the public should not engage in discussion.

Special Accommodations

This meeting is physically accessible to people with disabilities. Special requests should be directed to Cole Monnahan, via email (see FOR FURTHER INFORMATION CONTACT).

Dated: December 19, 2024.
Kelly Denit,
Director, Office of Sustainable Fisheries, National Marine Fisheries Service.

[FR Doc. 2024-30733 Filed 12-23-24; 8:45 am]

BILLING CODE 3510-22-P